DEPARTMENT OF COMMERCE

National Oceanic and Atmospheric Administration

50 CFR Part 660

[Docket No. 000524153-0153-01; I.D. 042100C]

RIN 0648-AO11

Fisheries off West Coast States and in the Western Pacific; Highly Migratory Species Fishery; Control Date

AGENCY: National Marine Fisheries Service (NMFS), National Oceanic and Atmospheric Administration (NOAA), Commerce.

ACTION: Advance Notice of Proposed Rulemaking; Notice of a control date for Pacific Coast Highly Migratory Species Fisheries; request for comments.

SUMMARY: The Pacific Fishery Management Council (Council) is developing a Fishery Management Plan (FMP) for Highly Migratory Species (HMS) off the Pacific Coast that would place HMS species such as tuna, billfish, and sharks under Federal management. This document announces a control date of March 9, 2000, after which vessels participating in the commercial (troll, long line, drift gillnet, harpoon, purse seine), and charter boat fisheries for HMS may not be qualified if the Council determines that a program to limit entry to the fisheries is appropriate. The intended effect of this announcement is to discourage speculative entry into the Pacific Coast HMS fisheries while the Council determines whether, it will limit participation in the fisheries in the future. If the Council decides to limit future participation, it will decide on criteria at that time.

DATES: Comments must be submitted by June 30, 2000.

ADDRESSES: Comments on this advance notice of proposed rulemaking may be mailed to Jim Lone, Chairman, Pacific Fishery Management Council, 2130 SW Fifth Avenue, Suite 224, Portland, OR 97201.

FOR FURTHER INFORMATION CONTACT: Svein Fougner, Sustainable Fisheries Division, Southwest Region, NMFS, 562-980-4040.

SUPPLEMENTARY INFORMATION: The Council was established under section 302(a)(1)(F)) of the Magnuson-Stevens Fishery Conservation and Management Act. The Council has concluded that an HMS FMP is needed and has named a plan development team. The Council sponsored scoping sessions to obtain public comment on matters that should be considered in the FMP. Several people strongly supported the development of the FMP, but urged the Council to establish a control date so that there would not be a rush to enter the fishery during the plan development process. These persons were especially concerned that recent tight restrictions in the groundfish fishery and continued restrictions in the ocean salmon fishery might encourage entry to the HMS fisheries. The Council subsequently heard advice from its advisory subpanel in support of a control date and from the public (some of whom supported a control date) at its meeting in March 2000. After considering the comments and weighing the alternatives, the Council agreed that March 9, 2000, should be established as a control date for the commercial and charter boat sectors of the HMS fisheries. The Council requested that NMFS publish a notification of this control date in the Federal Register.

The Council anticipates that the plan development process will take approximately one year. The Council has not yet determined that limited entry in one or more fishery sectors is necessary or appropriate. However, the Council is aware that there is often a rush to enter any fishery for which a new FMP is being developed, in anticipation that a limited entry program could be proposed that would use historic and recent participation as criteria for eligibility for limited entry permits.

The implementation of any management measures for the fishery affecting one or more of these fishery sectors will require approval of the FMP and implementation of associated regulations. Any action will require a regulatory proposal with public input and supporting analysis, NMFS approval, and publication of the implementing regulation in the Federal Register. If catch history is used as a basis for eligibility for participation, it is likely that catch by persons entering after the control date will not be considered in determining eligibility for a limited entry permit. The Council also may decide to use participation prior to the control date as a permit eligibility criterion. Fishers are not guaranteed future participation in the HMS fishery, regardless of their date of entry or level of participation in the fishery.

This advance notice of proposed rulemaking has been determined to be not significant for purposes of Executive Order 12866.

Authority: 16 U.S.C. 1801 et seq.

Dated: May 24, 2000.
Andrew A. Rosenberg,
Deputy Assistant Administrator for Fisheries, National Marine Fisheries Service.

[FR Doc. 00-13570 Filed 5-30-00; 8:45 am]

BILLING CODE 3510-22-F